COMMISSION ON CIVIL RIGHTS

Notice of Public Meetings of the New York Advisory Committee to the U.S. Commission on Civil Rights

AGENCY: Commission on Civil Rights.

ACTION: Announcement of meetings.

SUMMARY: Notice is hereby given, pursuant to the provisions of the rules and regulations of the U.S. Commission on Civil Rights (Commission), and the Federal Advisory Committee Act (FACA), that a meeting of the New York Advisory Committee to the U.S. Commission on Civil Rights will hold a series of public meetings via Zoom. The purpose of these meeting is to discuss the committee's project, Discrimination Against Jews on College and University Campuses Since October 7, 2023.

DATES:

Thursday, March 12, 2026, from 11:00 a.m.-12:30 p.m. Eastern Time.

Thursday, March 19, 2026, from 11:00 a.m.-12:30 p.m. Eastern Time

Wednesday, April 1, 2026, from 12:00 p.m.-1:30 p.m. Eastern Time

ADDRESSES: The meetings will be held via Zoom Webinar.

Registration Link (Audio/Visual):

March 12, 2026: https://www.zoomgov.com/webinar/register/WN_cB8cRub9QS2G2T39ND2gHw

March 19, 2026: https://www.zoomgov.com/webinar/register/WN_l-nIHRRQSzue9Bly7olZSA

April 1, 2026: https://www.zoomgov.com/webinar/register/WN_AzPjGE3ZSoCDgAOG8si7_Q

Join by Phone (Audio Only) for all Meetings: 1-833 435 1820 USA Toll Free

March 12, 2026, Webinar ID: 160 465 0430

March 19, 2026, Webinar ID: 160 532 3407

April 1, 2026, Webinar ID: 161 143 2993

Agendas: https://usccr.box.com/s/o2cgyzphy5zvbbq6bm3mi8usab44el44 (Note: a final meeting agenda will be available prior to each meeting date).

FOR FURTHER INFORMATION CONTACT: David Barreras, Designated Federal Officer at dbarreras@usccr.gov, or (202) 656-8937.

SUPPLEMENTARY INFORMATION: These virtual committee meetings are available to the public through the registration links above. Any interested member of the public may join at the links to listen to these meetings. An open comment period will be provided to allow members of the public to make a statement as time allows. Pursuant to the Federal Advisory Committee Act, public minutes of the meeting will include a list of people who are present at the meeting. If joining via phone, callers can expect to incur regular charges for calls they initiate over wireless lines, according to their wireless plan. The Commission will not refund any charges incurred. Callers will incur no charge for calls when they initiate over land-line connections to the toll-free telephone number. Closed captioning is available by selecting “CC” in the Zoom meeting platform. To request additional accommodation, please email dbarreras@usccr.gov at least 10 business days prior to the meeting.

Members of the public are entitled to submit written comments; the comments must be received in the regional office within 30 days following the meeting. Written comments may be emailed to dbarreras@usccr.gov. People who desire additional information may contact the Designated Federal Officer at (202) 656-8937.

Records generated from this meeting may be inspected and reproduced at the Regional Programs Coordination Unit Office, as they become available, both before and after the meeting. Records of the meetings will be available via the file sharing website, www.box.com, as well as at www.facadatabase.gov. People interested in the work of this Committee are directed to the Commission's website, www.usccr.gov, or may contact the Designated Federal Officer at (202) 656-8937.

Dated: February 18, 2026.
David Mussatt,
Supervisory Chief, Regional Programs Unit.

[FR Doc. 2026-03436 Filed 2-20-26; 8:45 am]

BILLING CODE; P